DEPARTMENT OF HEALTH AND HUMAN SERVICES

Centers for Disease Control and Prevention

Board of Scientific Counselors, National Center for Injury Prevention and Control, (BSC, NCIPC)

Correction: This notice was published in the Federal Register on June 16, 2015, Volume 80, Number 115, Page 34435. The Matters For Discussion and Contact Person For More Information should read as follows:

Matters For Discussion: The BSC, NCIPC will discuss, research strategies needed to guide the Center's focus, updates on the current research portfolio review and the Pediatric mild-Traumatic Injury Workgroup. There will be 15 minutes allotted for public comments at the end of the open session.

On the second day, the BSC, NCIPC will meet to conduct a Secondary Peer Review of extramural research grant applications received in response to four (4) Funding Opportunity Announcements (FOAs): PHS 2014002 Omnibus Solicitation of the NIH, CDC, FDA and ACF for Small Business Innovation Research Grant Applications (Parent SBIR {R42/R44}); CE15-003, Evaluating Structural, Economic, Environmental, or Policy Primary Prevention Strategies for Intimate Partner Violence and Sexual Violence; CE15-004, Evaluating Innovative and Promising Strategies to Prevent Suicide among Middle-Aged Men; and CE15-005, Research to Evaluate the CDC Heads Up Initiative in Youth Sports. Applications will be assessed as they relate to the Center's mission and programmatic balance. Recommendations from the secondary review will be voted upon and the application will be forwarded to the Center Director for consideration for funding support.

Contact Person For More Information: Arlene Greenspan, DrPH, MPH, PT, Associate Director for Science, Acting Designated Federal Officer, NCIPC, CDC, 4770 Buford Highway NE., Mailstop F-63, Atlanta, GA 30341, Telephone (770) 488-1279.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office Centers for Disease Control and Prevention.

[FR Doc. 2015-18064 Filed 7-22-15; 8:45 am]

BILLING CODE 4163-18-P